DEPARTMENT OF HEALTH AND HUMAN SERVICES

Notice of Availability: Test Tools and Test Procedures Approved by the National Coordinator for the ONC Health IT Certification Program

AGENCY: Office of the National Coordinator for Health Information Technology (ONC), Department of Health and Human Services.

ACTION: Notice.

SUMMARY: This notice announces the availability of test procedures and the Cypress version 3.0 test tool approved by the National Coordinator for Health Information Technology (the National Coordinator) for the testing of Health IT Modules to four 2015 Edition health information technology (health IT) certification criteria under the ONC Health IT Certification Program.

FOR FURTHER INFORMATION CONTACT: Alicia Morton, Director, Office of Certification, Office of the National Coordinator for Health Information Technology, 202-690-7151.

SUPPLEMENTARY INFORMATION: The ONC Health IT Certification Program (“Program”) was first established as the Temporary Certification Program in a final rule published on June 24, 2010 (“Temporary Certification Program final rule” (75 FR 36158)). It was later transitioned to the Permanent Certification Program in a final rule published on January 7, 2011 (“Permanent Certification Program final rule” (76 FR 1262)). The Permanent Certification Program was renamed the ONC HIT Certification Program in a final rule published on September 4, 2012 (77 FR 54163) (“2014 Edition final rule”), and subsequently renamed the ONC Health IT Certification Program in a final rule published on October 16, 2015 (80 FR 62601) (“2015 Edition final rule”). In the preamble of the Permanent Certification Program final rule, we stated that when the National Coordinator for Health Information Technology (National Coordinator) has approved test tools and test procedures for certification criteria adopted by the Secretary, that ONC would publish a notice of availability in the Federal Register and identify the approved test tools and test procedures on the ONC Web site.

In the 2015 Edition final rule, the Secretary adopted additional and revised certification criteria (80 FR 62601) and on February 4, 2016, the National Coordinator approved test tools and test procedures for testing Health IT Modules for the majority of the 2015 Edition certification criteria under the ONC Health IT Certification Program. ONC then published the “Notice of Availability: 2015 Edition Test Tools and Test Procedures Approved by the National Coordinator for the ONC Health IT Certification Program” in the Federal Register (81 FR 6022). However, that publication of approved test tools and test procedures did not include the 2015 Edition certification criteria specifically related to electronic clinical quality measurement (eCQM) in order to allow for alignment of those testing tools and test procedures with the timing of the CMS annual update of the eCQM specifications.

The National Coordinator has recently approved the test tools and test procedures for testing Health IT modules for four 2015 Edition certification criteria related to clinical quality measurement. The approved test tools and test procedures for the 2015 Edition “Clinical Quality Measures—record and export” certification criterion (§ 170.315(c)(1)), “Clinical Quality Measures—import and calculate” certification criterion (§ 170.315(c)(2)), “Clinical Quality Measures—report” certification criterion (§ 170.315(c)(3)), and the “Clinical Quality Measures—filter” certification criterion (§ 170.315(c)(4)) are identified on the ONC Web site at: https://www.healthit.gov/policy-researchers-implementers/2015-edition-test-method. The test tools and test procedures that were previously approved by the National Coordinator (81 FR 6022) for the 2015 Edition certification criteria are also available for review at the Web site listed above.

Authority: 42 U.S.C. 300jj-11.

Karen B. DeSalvo,
National Coordinator for Health Information Technology.

[FR Doc. 2016-19203 Filed 8-12-16; 8:45 am]

BILLING CODE 4150-45-P